DEPARTMENT OF ENERGY

Federal Energy Regulatory Commission

[Project No. 2354-152]

Georgia Power Company; Notice of Availability of Environmental Assessment

In accordance with the National Environmental Policy Act of 1969 and the Federal Energy Regulatory Commission's (Commission) regulations, 18 CFR part 380, the Office of Energy Projects has reviewed the application for a non-capacity amendment of license for the North Georgia Project and has prepared an Environmental Assessment (EA). The licensee proposes to amend the license to replace and upgrade four generating units in the Tugalo powerhouse. The licensee proposes at the Tugalo Development to: remove all turbine components to refurbish and upgrade, replace the existing generators, replace control panels and instrumentation in the control room, balance plant electrical and mechanical systems, upgrade the cooling system, and replace the spillway gates and trash racks. The project is located in the Savannah River basin on the Tallulah, Chattooga, and Tugalo rivers, in Rabun, Habersham, and Stephens counties, Georgia, and Oconee County, South Carolina. The project does not occupy federal lands.

The EA contains Commission staff's analysis of the potential environmental effects of the proposed amendment and concludes that, it would not constitute a major federal action that would significantly affect the quality of the human environment.

The Commission provides all interested persons with an opportunity to view and/or print the EA via the internet through the Commission's Home Page (http://www.ferc.gov) using the “eLibrary” link. Enter the docket number, excluding the last three digits in the docket number field, to access the document. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

Any comments should be filed within 30 days from the date of this notice. The Commission strongly encourages electronic filing. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filings, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2354-152.

For further information, contact Aneela Mousam at (202) 502-8357 or aneela.mousam@ferc.gov.

Kimberly D. Bose,
Secretary.

[FR Doc. 2022-26841 Filed 12-8-22; 8:45 am]

BILLING CODE 6717-01-P